ENVIRONMENTAL PROTECTION AGENCY

[Docket ID Numbers: EPA-HQ-OECA-2008-0277 to 0295, 0297 to 0301, 0363 to 0377, and 0421 to 0434; FRL-8573-8]

Agency Information Collection Activities: Request for Comments on Fifty-Two Proposed Information Collection Requests (ICRs)

AGENCY: Environmental Protection Agency (EPA).

ACTION: Notice.

SUMMARY: In compliance with the Paperwork Reduction Act (44 U.S.C. 3501 et seq.), this document announces that EPA is planning to submit the following fifty-two existing, approved, continuing Information Collection Requests (ICR) to the Office of Management and Budget (OMB) for the purpose of renewing the ICRs. Before submitting the ICRs to OMB for review and approval, EPA is soliciting comments on specific aspects of the information collections as described under SUPPLEMENTARY INFORMATION.

DATES: Comments must be submitted on or before July 29, 2008.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II.C.

SUPPLEMENTARY INFORMATION:

A. How Can I Access the Docket and/or Submit Comments?

1. Docket Access Instructions

EPA has established a public docket for the ICRs listed in the SUPPLEMENTARY INFORMATION, section II.B. The docket is available for online viewing at http://www.regulations.gov, or in person viewing at the Enforcement and Compliance Docket and Information Center (ECDIC), in the EPA Docket Center (EPA/DC), EPA West, Room 3334, 1301 Constitution Avenue, NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

2. Instructions for Submitting Comments

Submit your comments by one of the following methods:

a. Electronic Submission: Access http://www.regulations.gov and follow the on-line instructions for submitting comments.

b. E-mail: docket.oeca@epa.gov.

c. Fax: (202) 566-1511.

d. Mail: Enforcement and Compliance Docket and Information Center (ECDIC), Environmental Protection Agency, EPA Docket Center (EPA/DC), Mailcode: 2201T, 1200 Pennsylvania Avenue, NW., Washington, DC 20460.

e. Hand Delivery: Enforcement and Compliance Docket and Information Center (ECDIC), Environmental Protection Agency, EPA Docket Center (EPA/DC), EPA West, Room 3334, 1301 Constitution Avenue, NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II.B, and reference the OMB Control Number for the ICR. It is EPA's policy that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What Information Is EPA Particularly Interested In?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

C. What Should I Consider When I Prepare My Comments for EPA?

You may find the following suggestions helpful for preparing comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

II. ICRs To Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for EPA's regulations under Title 40 of the Code of Federal Regulations are published in the Federal Register, or on the related collection instrument or form. The display of OMB control numbers for certain EPA regulations is consolidated at 40 CFR part 9.

B. What information collection activity or ICR does this apply to?

In compliance with the Paperwork Reduction Act (44 U.S.C. 3501 et seq.), this notice announces that EPA is planning to submit the following fifty-two continuing Information Collection Requests (ICR) to the Office of Management and Budget (OMB):

(1) Docket ID Number: EPA-HQ-OECA-2008-0294

Title: NSPS for Sulfuric Acid Plants (40 CFR Part 60, Subpart H)

ICR Numbers: EPA ICR Number 1057.11, OMB Control Number 2060-0041

ICR Status: This ICR is scheduled to expire on October 31, 2008

(2) Docket ID Number: EPA-HQ-OECA-2008-0433

Title: NESHAP for Source Categories: Generic Maximum Achievable Control Technology Standards for Carbon Black, Ethylene, Cyanide and Spandex (40 CFR Part 63, Subpart YY)

ICR Numbers: EPA ICR Number 1983.05, OMB Control Number 2060-0489

ICR Status: This ICR is scheduled to expire on November 30, 2008

(3) Docket ID Number: EPA-HQ-OECA-2008-0370

Title: NSPS for Metallic Mineral Processing Plants (40 CFR Part 60, Subpart LL)

ICR Numbers: EPA ICR Number 0982.09, OMB Control Number 2060-0016

ICR Status: This ICR is scheduled to expire on November 30, 2008

(4) Docket ID Number: EPA-HQ-OECA-2008-0374

Title: NSPS for Primary and Secondary Emissions from Basic Oxygen Furnaces (40 CFR Part 60, Subparts N and Na)

ICR Numbers: EPA ICR Number 1069.09, OMB Control Number 2060-0029

ICR Status: This ICR is scheduled to expire on November 30, 2008

(5) Docket ID Number: EPA-HQ-OECA-2008-0377

Title: NSPS for Glass Manufacturing Plants (40 CFR Part 60, Subpart CC)

ICR Numbers: EPA ICR Number 1131.09, OMB Control Number 2060-0054

ICR Status: This ICR is scheduled to expire on November 30, 2008

(6) Docket ID Number: EPA-HQ-OECA-2008-0423

Title: NSPS for Petroleum Refineries (40 CFR Part 60, Subpart J)

ICR Numbers: EPA ICR Number 1054.10, OMB Control Number 2060-0022

ICR Status: This ICR is scheduled to expire on November 30, 2008

(7) Docket ID Number: EPA-HQ-OECA-2008-0297

Title: NESHAP for Coke Oven Batteries (40 CFR Part 63, Subpart L)

ICR Numbers: EPA ICR Number 1362.08, OMB Control Number 2060-0253

ICR Status: This ICR is scheduled to expire on December 31, 2008

(8) Docket ID Number: EPA-HQ-OECA-2008-0288

Title: NESHAP for Miscellaneous Metal Parts and Products (40 CFR Part 63, Subpart MMMMM)

ICR Numbers: EPA ICR Number 2056.03, OMB Control Number 2060-0486

ICR Status: This ICR is scheduled to expire on January 31, 2009

(9) Docket ID Number: EPA-HQ-OECA-2008-0427

Title: NESHAP for Polyether Polyols Production (40 CFR Part 63, Subpart PPP)

ICR Numbers: EPA ICR Number 1811.06, OMB Control Number 2060-0415

ICR Status: This ICR is scheduled to expire on January 31, 2009

(10) Docket ID Number: EPA-HQ-OECA-2008-0279

Title: NSPS for Bulk Gasoline Terminals (40 CFR Part 60, Subpart XX)

ICR Numbers: EPA ICR Number 0664.09, OMB Control Number 2060-0006

ICR Status: This ICR is scheduled to expire on January 31, 2009

(11) Docket ID Number: EPA-HQ-OECA-2008-0425

Title: NESHAP for Natural Gas Transmission and Storage (40 CFR Part 63, Subpart HHH)

ICR Numbers: EPA ICR Number 1789.06, OMB Control Number 2060-0418

ICR Status: This ICR is scheduled to expire on January 31, 2009

(12) Docket ID Number: EPA-HQ-OECA-2008-0375

Title: NESHAP for Inorganic Arsenic Emissions from Glass Manufacturing Plants (40 CFR Part 61, Subpart N)

ICR Numbers: EPA ICR Number 1081.09, OMB Control Number 2060-0043

ICR Status: This ICR is scheduled to expire on January 31, 2009

(13) Docket ID Number: EPA-HQ-OECA-2008-0368

Title: NSPS for Calciners and Dryers in Mineral Industries (40 CFR Part 60, Subpart UUU)

ICR Numbers: EPA ICR Number 0746.07, OMB Control Number 2060-0251

ICR Status: This ICR is scheduled to expire on January 31, 2009

(14) Docket ID Number: EPA-HQ-OECA-2008-0299

Title: NSPS for Municipal Solid Waste Landfills (40 CFR Part 60, Subpart WWW)

ICR Numbers: EPA ICR Number 1557.07, OMB Control Number 2060-0220

ICR Status: This ICR is scheduled to expire on January 31, 2009

(15) Docket ID Number: EPA-HQ-OECA-2008-0365

Title: NESHAP for Primary Lead Smelters (40 CFR Part 63, Subpart TTT)

ICR Numbers: EPA ICR Number 1856.06, OMB Control Number 2060-0414

ICR Status: This ICR is scheduled to expire on February 28, 2009

(16) Docket ID Number: EPA-HQ-OECA-2008-0422

Title: NSPS for Metal Coil Surface Coating (40 CFR Part 60, Subpart TT)

ICR Numbers: EPA ICR Number 0660.10, OMB Control Number 2060-0107

ICR Status: This ICR is scheduled to expire on February 28, 2009

(17) Docket ID Number: EPA-HQ-OECA-2008-0301

Title: NESHAP for Steel Pickling, HCL Process Facilities and Hydrochloric Acid Regeneration Plants (40 CFR Part 63, Subpart CCC)

ICR Numbers: EPA ICR Number 1821.06, OMB Control Number 2060-0419

ICR Status: This ICR is scheduled to expire on February 28, 2009

(18) Docket ID Number: EPA-HQ-OECA-2008-0426

Title: NESHAP for Portland Cement (40 CFR Part 63, Subpart LLL)

ICR Numbers: EPA ICR Number 1801.07, OMB Control Number 2060-0416

ICR Status: This ICR is scheduled to expire on February 28, 2009

(19) Docket ID Number: EPA-HQ-OECA-2008-0280

Title: NSPS for Equipment Leaks of VOC in Petroleum Refineries (40 CFR Part 60, Subpart GGG and GGGa)

ICR Numbers: EPA ICR Number 0983.10, OMB Control Number 2060-0067

ICR Status: This ICR is scheduled to expire on February 28, 2009

(20) Docket ID Number: EPA-HQ-OECA-2008-0424

Title: NESHAP for Oil and Natural Gas Production (40 CFR Part 63, Subpart HH)

ICR Numbers: EPA ICR Number 1788.09, OMB Control Number 2060-0417

ICR Status: This ICR is scheduled to expire on March 31, 2009

(21) Docket ID Number: EPA-HQ-OECA-2008-0431

Title: NESHAP for Wet-Formed Fiberglass Mat Production (40 CFR Part 63, Subpart HHHH)

ICR Numbers: EPA ICR Number 1964.04, OMB Control Number 2060-0496

ICR Status: This ICR is scheduled to expire on March 31, 2009

(22) Docket ID Number: EPA-HQ-OECA-2008-0428

Title: NESHAP for Source Categories—Generic Maximum Achievable Control Technology Standards for Acetal Resin; Acrylic and Modacrylic Fiber; Hydrogen Fluoride and Polycarbonate Production (40 CFR Part 63, Subpart YY)

ICR Numbers: EPA ICR Number 1871.05, OMB Control Number 2060-0420

ICR Status: This ICR is scheduled to expire on March 31, 2009

(23) Docket ID Number: EPA-HQ-OECA-2008-0295

Title: NSPS for Grain Elevators (40 CFR Part 60, Subpart DD)

ICR Numbers: EPA ICR Number 1130.09, OMB Control Number 2060-0082

ICR Status: This ICR is scheduled to expire on March 31, 2009

(24) Docket ID Number: EPA-HQ-OECA-2008-0371

Title: NESHAP for Flexible Polyurethane Foam Fabrication (40 CFR Part 63, Subpart MMMMM)

ICR Numbers: EPA ICR Number 2027.04, OMB Control Number 2060-0516

ICR Status: This ICR is scheduled to expire on March 31, 2009

(25) Docket ID Number: EPA-HQ-OECA-2008-0291

Title: Emission Guidelines for Existing Other Solid Waste Incineration Units (40 CFR Part 60, Subpart FFFF)

ICR Numbers: EPA ICR Number 2164.03, OMB Control Number 2060-0562

ICR Status: This ICR is scheduled to expire on March 31, 2009

(26) Docket ID Number: EPA-HQ-OECA-2008-0290

Title: NSPS for Other Solid Waste Incineration Units (40 CFR Part 60, Subpart EEEE)

ICR Numbers: EPA ICR Number 2163.03, OMB Control Number 2060-0563

ICR Status: This ICR is scheduled to expire on March 31, 2009

(27) Docket ID Number: EPA-HQ-OECA-2008-0277

Title: NESHAP for Asbestos (40 CFR Part 61, Subpart M)

ICR Numbers: EPA ICR Number 0111.12, OMB Control Number 2060-0101

ICR Status: This ICR is scheduled to expire on April 30, 2009

(28) Docket ID Number: EPA-HQ-OECA-2008-0363

Title: NSPS for Lime Manufacturing (40 CFR Part 60, Subpart HH)

ICR Numbers: EPA ICR Number 1167.09, OMB Control Number 2060-0063

ICR Status: This ICR is scheduled to expire on April 30, 2009

(29) Docket ID Number: EPA-HQ-OECA-2008-0376

Title: NSPS for Hot Mix Asphalt Facilities (40 CFR Part 60, Subpart I)

ICR Numbers: EPA ICR Number 1127.09, OMB Control Number 2060-0083

ICR Status: This ICR is scheduled to expire on April 30, 2009

(30) Docket ID Number: EPA-HQ-OECA-2008-0293

Title: NSPS for Kraft Pulp Mills (40 CFR Part 60, Subpart BB)

ICR Numbers: EPA ICR Number 1055.09, OMB Control Number 2060-0021

ICR Status: This ICR is scheduled to expire on May 31, 2009

(31) Docket ID Number: EPA-HQ-OECA-2008-0289

Title: NESHAP for Printing, Coating and Dyeing of Fabrics and Other Textiles (40 CFR Part 63, Subpart OOOO)

ICR Numbers: EPA ICR Number 2071.04, OMB Control Number 2060-0522

ICR Status: This ICR is scheduled to expire on June 30, 2009

(32) Docket ID Number: EPA-HQ-OECA-2008-0432

Title: NESHAP for Reinforced Plastics Composites Production (40 CFR Part 63, Subpart WWWW)

ICR Numbers: EPA ICR Number 1976.04, OMB Control Number 2060-0509

ICR Status: This ICR is scheduled to expire on June 30, 2009

(33) Docket ID Number: EPA-HQ-OECA-2008-0285

Title: NESHAP for Paper and Other Web Coating (40 CFR Part 63, Subpart JJJJ)

ICR Numbers: EPA ICR Number 1951.04, OMB Control Number 2060-0511

ICR Status: This ICR is scheduled to expire on June 30, 2009

(34) Docket ID Number: EPA-HQ-OECA-2008-0430

Title: NESHAP for the Surface Coating of Large Household and Commercial Appliances (40 CFR Part 63, Subpart NNNN)

ICR Numbers: EPA ICR Number 1954.04, OMB Control Number 2060-0457

ICR Status: This ICR is scheduled to expire on June 30, 2009

(35) Docket ID Number: EPA-HQ-OECA-2008-0367

Title: NESHAP for Brick and Structural Clay Manufacturing (40 CFR Part 63, Subpart JJJJJ)

ICR Numbers: EPA ICR Number 2022.04, OMB Control Number 2060-0508

ICR Status: This ICR is scheduled to expire on June 30, 2009

(36) Docket ID Number: EPA-HQ-OECA-2008-0292

Title: NESHAP for Refractory Products Manufacturing (40 CFR Part 63, Subpart SSSSS)

ICR Numbers: EPA ICR Number 2040.04, OMB Control Number 2060-0515

ICR Status: This ICR is scheduled to expire on June 30, 2009

(37) Docket ID Number: EPA-HQ-OECA-2008-0284

Title: NESHAP for Municipal Solid Waste Landfills (40 CFR Part 63, Subpart AAAA)

ICR Numbers: EPA ICR Number 1938.04, OMB Control Number 2060-0505

ICR Status: This ICR is scheduled to expire on August 31, 2009

(38) Docket ID Number: EPA-HQ-OECA-2008-0281

Title: NESHAP for Publicly Owned Treatment Works (40 CFR Part 63, Subpart VVV)

ICR Numbers: EPA ICR Number 1891.05, OMB Control Number 2060-0428

ICR Status: This ICR is scheduled to expire on August 31, 2009

(39) Docket ID Number: EPA-HQ-OECA-2008-0373

Title: NESHAP for Asphalt Processing and Asphalt Roofing Manufacturing (40 CFR Part 63, Subpart LLLLL)

ICR Numbers: EPA ICR Number 2029.04, OMB Control Number 2060-0520

ICR Status: This ICR is scheduled to expire on August 31, 2009

(40) Docket ID Number: EPA-HQ-OECA-2008-0283

Title: State and Federal Emission Guidelines for Hospital-Medical/Infectious Waste Incinerators (40 CFR Part 60, Subpart Ce and 40 CFR Part 62, Subpart HHH)

ICR Numbers: EPA ICR Number 1899.04, OMB Control Number 2060-0422

ICR Status: This ICR is scheduled to expire on August 31, 2009

(41) Docket ID Number: EPA-HQ-OECA-2008-0298

Title: NESHAP for Benzene Waste Operations (40 CFR Part 61, Subpart FF)

ICR Numbers: EPA ICR Number 1541.09, OMB Control Number 2060-0183

ICR Status: This ICR is scheduled to expire on August 31, 2009

(42) Docket ID Number: EPA-HQ-OECA-2008-0366

Title: NESHAP for Coke Oven Pushing Quenching and Battery Stacks (40 CFR Part 63, Subpart CCCCC)

ICR Numbers: EPA ICR Number 1995.04, OMB Control Number 2060-0521

ICR Status: This ICR is scheduled to expire on August 31, 2009

(43) Docket ID Number: EPA-HQ-OECA-2008-0369

Title: NESHAP for Clay Ceramics Manufacturing (40 CFR Part 63, Subpart KKKKK)

ICR Numbers: EPA ICR Number 2023.04, OMB Control Number 2060-0513

ICR Status: This ICR is scheduled to expire on August 31, 2009

(44) Docket ID Number: EPA-HQ-OECA-2008-0372

Title: NSPS for Petroleum Dry Cleaners (40 CFR Part 60, Subpart JJJ)

ICR Numbers: EPA ICR Number 0997.09, OMB Control Number 2060-0079

ICR Status: This ICR is scheduled to expire on August 31, 2009

(45) Docket ID Number: EPA-HQ-OECA-2008-0286

Title: NESHAP for Integrated Iron and Steel Manufacturing (40 CFR Part 63, Subpart FFFFF)

ICR Numbers: EPA ICR Number 2003.04, OMB Control Number 2060-0517

ICR Status: This ICR is scheduled to expire on August 31, 2009

(46) Docket ID Number: EPA-HQ-OECA-2008-0287

Title: NESHAP for Semiconductor Manufacturing (40 CFR Part 63, Subpart BBBBB)

ICR Numbers: EPA ICR Number 2042.04, OMB Control Number 2060-0519

ICR Status: This ICR is scheduled to expire on August 31, 2009

(47) Docket ID Number: EPA-HQ-OECA-2008-0278

Title: NESHAP for Mercury (40 CFR Part 61, Subpart E)

ICR Numbers: EPA ICR Number 0113.10, OMB Control Number 2060-0097

ICR Status: This ICR is scheduled to expire on August 31, 2009

(48) Docket ID Number: EPA-HQ-OECA-2008-0300

Title: NESHAP for Shipbuilding and Ship Repair Facilities—Surface Coating (40 CFR Part 63, Subpart II)

ICR Numbers: EPA ICR Number 1712.06, OMB Control Number 2060-0330

ICR Status: This ICR is scheduled to expire on August 31, 2009

(49) Docket ID Number: EPA-HQ-OECA-2008-0429

Title: NESHAP for Metal Furniture Surface Coating (40 CFR Part 63, Subpart RRRR)

ICR Numbers: EPA ICR Number 1952.04, OMB Control Number 2060-0518

ICR Status: This ICR is scheduled to expire on September 30, 2009

(50) Docket ID Number: EPA-HQ-OECA-2008-0421

Title: NESHAP for the Wood Building Products Surface Coating Industry (40 CFR Part 63, Subpart QQQQ)

ICR Numbers: EPA ICR Number 2034.04, OMB Control Number 2060-0510

ICR Status: This ICR is scheduled to expire on September 30, 2009

(51) Docket ID Number: EPA-HQ-OECA-2008-0434

Title: NESHAP for Hydrochloric Acid Production (40 CFR Part 63, Subpart NNNNN)

ICR Numbers: EPA ICR Number 2032.06, OMB Control Number 2060-0529

ICR Status: This ICR is scheduled to expire on September 30, 2009

(52) Docket ID Number: EPA-HQ-OECA-2008-0282

Title: NESHAP for Secondary Aluminum Production (40 CFR Part 63, Subpart RRR)

ICR Numbers: EPA ICR Number 1894.06, OMB Control Number 2060-0433

ICR Status: This ICR is scheduled to expire on September 30, 2009

C. Contact Individuals for ICRs

(1) NSPS for Sulfuric Acid Plants (40 CFR Part 60, Subpart H); Learia Williams of the Office of Compliance at (202) 564-4113; or via E-mail to: williams.learia@epa.gov; EPA ICR Number 1057.11; OMB Control Number 2060-0041; expiration date October 31, 2008.

(2) NESHAP for Source Categories: Generic Maximum Achievable Control Technology Standards for Carbon Black, Ethylene, Cyanide and Spandex (40 CFR Part 63, Subpart YY); John Schaefer of the Office of Air Quality Planning and Standards at (919) 541-0296 or via e-mail to schaefer.john@eap.gov; EPA ICR Number 1983.05; OMB Control Number 2060-0489; expiration date November 30, 2008.

(3) NSPS for Metallic Mineral Processing Plants (40 CFR Part 60, Subpart LL); Sounjay Gairola of the Office of Civil Enforcement at (202) 564-4003 or via e-mail to gairola.sounjay@epa.gov; EPA ICR Number 0982.09; OMB Control Number 2060-0016; expiration date November 30, 2008.

(4) NSPS for Primary and Secondary Emissions from Basic Oxygen Furnaces (40 CFR Part 60, Subparts N and Na); Sounjay Gairola of the Office of Civil Enforcement at (202) 564-4003 or via e-mail to gairola.sounjay@epa.gov; ICR Number 1069.09; OMB Control Number 2060-0029; expiration date November 30, 2008.

(5) NSPS for Glass Manufacturing Plants (40 CFR Part 60, Subpart CC); Sounjay Gairola of the Office of Civil Enforcement at (202) 564-4003 or via e-mail to gairola.sounjay@epa.gov; ICR Number 1131.09; OMB Control Number 2060-0054; expiration date November 30, 2008.

(6) NSPS for Petroleum Refineries (40 CFR Part 60, Subpart J); John Schaefer of the Office of Air Quality Planning and Standards at (919) 541-0296 or via e-mail to schaefer.john@epa.gov; ICR Number 1054.10; OMB Control Number 2060-0022; expiration date November 30, 2008.

(7) NESHAP for Coke Oven Batteries (40 CFR Part 63, Subpart L); Maria Malave of the Office of Compliance at (202) 564-7027; or via E-mail to: malave.maria@epa.gov; EPA ICR Number 1362.08; OMB Control Number 2060-0253; expiration date December 31, 2008.

(8) NESHAP for Miscellaneous Metal Parts and Products (40 CFR Part 63, Subpart MMMMM); Leonard Lazarus of the Office of Compliance at (202) 564-6369; or via E-mail to: lazarus.leonard@epa.gov; EPA ICR Number 2056.03; OMB Control Number 2060-0486; expiration date January 31, 2009.

(9) NESHAP for Polyether Polyols Production (40 CFR Part 63, Subpart PPP); John Schaefer of the Office of Air Quality Planning and Standards at (919) 541-0296 or via e-mail to schaefer.john@epa.gov; EPA ICR Number 1811.06; OMB Control Number 2060-0415; expiration date January 31, 2009.

(10) NSPS for Bulk Gasoline Terminals (40 CFR Part 60, Subpart XX); Learia Williams of the Office of Compliance at (202) 564-4113; or via E-mail to: williams.learia@epa.gov; EPA ICR Number 0664.09; OMB Control Number 2060-0006; expiration date January 31, 2009.

(11) NESHAP for Natural Gas Transmission and Storage (40 CFR Part 63, Subpart HHH); John Schaefer of the Office of Air Quality Planning and Standards at (919) 541-0296 or via e-mail to schaefer.john@epa.gov; EPA ICR Number 1789.06; OMB Control Number 2060-0418; expiration date January 31, 2009.

(12) NESHAP for Inorganic Arsenic Emissions from Glass Manufacturing Plants (40 CFR Part 61, Subpart N); Sounjay Gairola of the Office of Civil Enforcement at (202) 564-4003 or via e-mail to gairola.sounjay@epa.gov; EPA ICR Number 1081.09; OMB Control Number 2060-0043; expiration date January 31, 2009.

(13) NSPS for Calciners and Dryers in Mineral Industries (40 CFR Part 60, Subpart UUU; Sounjay Gairola of the Office of Civil Enforcement at (202) 564-4003 or via e-mail to gairola.sounjay@epa.gov; EPA ICR Number 0746.07, OMB Control Number 2060-0251; expiration date January 31, 2009.

(14) NSPS for Municipal Solid Waste Landfills (40 CFR Part 60, Subpart WWW); Learia Williams of the Office of Compliance at (202) 564-4113; or via E-mail to: williams.learia@epa.gov; EPA ICR Number 1557.07; OMB Control Number 2060-0220; expiration date January 31, 2009.

(15) NESHAP for Primary Lead Smelters (40 CFR Part 63, Subpart TTT); Sounjay Gairola of the Office of Civil Enforcement at (202) 564-4003 or via e-mail to gairola.sounjay@epa.gov; EPA ICR Number 1856.06; OMB Control Number 2060-0414; expiration date February 28, 2009.

(16) NSPS for Metal Coil Surface Coating (40 CFR Part 60, Subpart TT); John Schaefer of the Office of Air Quality Planning and Standards at (919) 541-0296 or via e-mail to schaefer.john@epa.gov; ICR Number 0660.10; OMB Control Number 2060-0107; expiration date February 28, 2009.

(17) NESHAP for Steel Pickling, HCL Process Facilities and Hydrochloric Acid Regeneration Plants (40 CFR Part 63, Subpart CCC); Learia Williams of the Office of Compliance at (202) 564-4113; or via E-mail to: williams.learia@epa.gov; EPA ICR Number 1821.06; OMB Control Number 2060-0419; expiration date February 28, 2009.

(18) NESHAP for Portland Cement (40 CFR Part 63, Subpart LLL); John Schaefer of the Office of Air Quality Planning and Standards at (919) 541-0296 or via e-mail to schaefer.john@epa.gov; EPA ICR Number 1801.07; OMB Control Number 2060-0416; expiration date February 28, 2009.

(19) NSPS for Equipment Leaks of VOC in Petroleum Refineries (40 CFR Part 60, Subpart GGG and GGGa); Maria Malave of the Office of Compliance at (202) 564-7027; or via E-mail to: malave.maria@epa.gov; EPA ICR Number 0983.10; OMB Control Number 2060-0067; expiration date February 28, 2009.

(20) NESHAP for Oil and Natural Gas Production (40 CFR Part 63, Subpart HH); John Schaefer of the Office of Air Quality Planning and Standards at (919) 541-0296 or via e-mail to schaefer.john@epa.gov; ICR Number 1788.09; OMB Control Number 2060-0417; expiration date March 31, 2009.

(21) NESHAP for Wet-Formed Fiberglass Mat Production (40 CFR Part 63, Subpart HHHH); John Schaefer of the Office of Air Quality Planning and Standards at (919) 541-0296 or via e-mail to schaefer.john@epa.gov; ICR Number 1964.04, OMB Control Number 2060-0496; expiration date March 31, 2009.

(22) NESHAP for Source Categories—Generic Maximum Achievable Control Technology Standards for Acetal Resin; Acrylic and Modacrylic Fiber; Hydrogen Fluoride and Polycarbonate Production (40 CFR Part 63, Subpart YY); John Schaefer of the Office of Air Quality Planning and Standards at (919) 541-0296 or via e-mail to schaefer.john@epa.gov; EPA ICR Number 1871.05; OMB Control Number 2060-0420; expiration date March 31, 2009.

(23) NSPS for Grain Elevators (40 CFR Part 60, Subpart DD); Learia Williams of the Office of Compliance at (202) 564-4113; or via E-mail to: williams.learia@epa.gov; EPA ICR Number 1130.09; OMB Control Number 2060-0082; expiration date March 31, 2009.

(24) NESHAP for Flexible Polyurethane Foam Fabrication (40 CFR Part 63, Subpart MMMMM); Sounjay Gairola of the Office of Civil Enforcement at (202) 564-4003 or via e-mail to gairola.sounjay@epa.gov; ICR Number 2027.04; OMB Control Number 2060-0516; expiration date March 31, 2009.

(25) Emission Guidelines for Existing Other Solid Waste Incineration Units (40 CFR Part 60, Subpart FFFF); Learia Williams of the Office of Compliance at (202) 564-4113; or via E-mail to: williams.learia@epa.gov; EPA ICR Number 2164.03; OMB Control Number 2060-0562; expiration date March 31, 2009.

(26) NSPS for Other Solid Waste Incineration Units (40 CFR Part 60, Subpart EEEE); Learia Williams of the Office of Compliance at (202) 564-4113; or via E-mail to: williams.learia@epa.gov; EPA ICR Number 2163.03; OMB Control Number 2060-0563; expiration date March 31, 2009.

(27) NESHAP for Asbestos (40 CFR Part 61, Subpart M); Learia Williams of the Office of Compliance at (202) 564-4113; or via E-mail to: williams.learia@epa.gov; EPA ICR Number 0111.12; OMB Control Number 2060-0101; expiration date April 30, 2009.

(28) NSPS for Lime Manufacturing (40 CFR Part 60, Subpart HH); Sounjay Gairola of the Office of Civil Enforcement at (202) 564-4003 or via e-mail to gairola.sounjay@epa.gov; EPA ICR Number 1167.09; OMB Control Number 2060-0063; expiration date April 30, 2009.

(29) NSPS for Hot Mix Asphalt Facilities (40 CFR Part 60, Subpart I); Sounjay Gairola of the Office of Civil Enforcement at (202) 564-4003 or via e-mail to gairola.sounjay@epa.gov; EPA ICR Number 1127.09, OMB Control Number 2060-0083; expiration date April 30, 2009.

(30) NSPS for Kraft Pulp Mills (40 CFR Part 60, Subpart BB); Learia Williams of the Office of Compliance at (202) 564-4113; or via E-mail to: williams.learia@epa.gov; EPA ICR Number 1055.09; OMB Control Number 2060-0021; expiration date May 31, 2009.

(31) NESHAP for Printing, Coating and Dyeing of Fabrics and Other Textiles (40 CFR Part 63, Subpart OOOO); Leonard Lazarus of the Office of Compliance at (202) 564-6369; or via E-mail to: lazarus.leonard@epa.gov; EPA ICR Number 2071.04; OMB Control Number 2060-0522; expiration date June 30, 2009.

(32) NESHAP for Reinforced Plastics Composites Production (40 CFR Part 63, Subpart WWWW); John Schaefer of the Office of Air Quality Planning and Standards at (919) 541-0296 or via e-mail to schaefer.john@epa.gov; ICR Number 1976.04; OMB Control Number 2060-0509; expiration date June 30, 2009.

(33) NESHAP for Paper and Other Web Coating (40 CFR Part 63, Subpart JJJJ); Learia Williams of the Office of Compliance at (202) 564-4113; or via E-mail to: williams.learia@epa.gov; EPA ICR Number 1951.04; OMB Control Number 2060-0511; expiration date June 30, 2009.

(34) NESHAP for the Surface Coating of Large Household and Commercial Appliances (40 CFR Part 63, Subpart NNNN); John Schaefer of the Office of Air Quality Planning and Standards at (919) 541-0296 or via e-mail to schaefer.john@epa.gov; EPA ICR Number 1954.04; OMB Control Number 2060-0457; expiration date June 30, 2009.

(35) NESHAP for Brick and Structural Clay Manufacturing (40 CFR Part 63, Subpart JJJJJ); Sounjay Gairola of the Office of Civil Enforcement at (202) 564-4003 or via e-mail to gairola.sounjay@epa.gov; EPA ICR Number 2022.04; OMB Control Number 2060-0508; expiration date June 30, 2009.

(36) NESHAP for Refractory Products Manufacturing (40 CFR Part 63, Subpart SSSSS); Sounjay Gairola of the Office of Civil Enforcement at (202) 564-4003 or via e-mail to gairola.sounjay@epa.gov; EPA ICR Number 2040.04; OMB Control Number 2060-0515; expiration date June 30, 2009.

(37) NESHAP for Municipal Solid Waste Landfills (40 CFR Part 63, Subpart AAAA); Learia Williams of the Office of Compliance at (202) 564-4113; or via E-mail to: williams.learia@epa.gov; EPA ICR Number 1938.04; OMB Control Number 2060-0505; expiration date August 31, 2009.

(38) NESHAP for Publicly Owned Treatment Works (40 CFR Part 63, Subpart VVV); Learia Williams of the Office of Compliance at (202) 564-4113; or via E-mail to: williams.learia@epa.gov; EPA ICR Number 1891.05; OMB Control Number 2060-0428; expiration date August 31, 2009.

(39) NESHAP for Asphalt Processing and Asphalt Roofing Manufacturing (40 CFR Part 63, Subpart LLLLL); Sounjay Gairola of the Office of Civil Enforcement at (202) 564-4003 or via e-mail to gairola.sounjay@epa.gov; EPA ICR Number 2029.04; OMB Control Number 2060-0520; expiration date August 31, 2009.

(40) State and Federal Emission Guidelines for Hospital/Medical/Infectious Waste Incinerators (40 CFR Part 60, Subpart Ce and 40 CFR Part 62, Subpart HHH); Learia Williams of the Office of Compliance at (202) 564-4113; or via e-mail to: williams.learia@epa.gov; EPA ICR Number 1899.04; OMB Control Number 2060-0422; expiration date August 31, 2009.

(41) NESHAP for Benzene Waste Operations (40 CFR Part 61, Subpart FF); Learia Williams of the Office of Compliance at (202) 564-4113; or via e-mail to: williams.learia@epa.gov; EPA ICR Number 1541.09; OMB Control Number 2060-0183; expiration date August 31, 2009.

(42) NESHAP for Coke Oven Pushing Quenching and Battery Stacks (40 CFR Part 63, Subpart CCCCC)); Sounjay Gairola of the Office of Civil Enforcement at (202) 564-4003 or via e-mail to gairola.sounjay@epa.gov; EPA ICR Number 1995.04; OMB Control Number 2060-0521; expiration date August 31, 2009.

(43) NESHAP for Clay Ceramics Manufacturing (40 CFR Part 63, Subpart KKKKK); Sounjay Gairola of the Office of Civil Enforcement at (202) 564-4003 or via e-mail to gairola.sounjay@epa.gov; EPA ICR Number 2023.04; OMB Control Number 2060-0513; expiration date August 31, 2009.

(44) NSPS for Petroleum Dry Cleaners (40 CFR Part 60, Subpart JJJ); Sounjay Gairola of the Office of Civil Enforcement at (202) 564-4003 or via e-mail to gairola.sounjay@epa.gov; EPA ICR Number 0997.09; OMB Control Number 2060-0079; expiration date August 31, 2009.

(45) NESHAP for Integrated Iron and Steel Manufacturing (40 CFR Part 63, Subpart FFFFF); Maria Malave of the Office of Compliance at (202) 564-7027; or via E-mail to: malave.maria@epa.gov; EPA ICR Number 2003.04; OMB Control Number 2060-0517; expiration date August 31, 2009.

(46) NESHAP for Semiconductor Manufacturing (40 CFR Part 63, Subpart BBBBB); Learia Williams of the Office of Compliance at (202) 564-4113; or via E-mail to: williams.learia@epa.gov; EPA ICR Number 2042.04; OMB Control Number 2060-0519; expiration date August 31, 2009.

(47) NESHAP for Mercury (40 CFR Part 61, Subpart E); Learia Williams of the Office of Compliance at (202) 564-4113; or via E-mail to: williams.learia@epa.gov; EPA ICR Number 0113.10; OMB Control Number 2060-0097; expiration date August 31, 2009.

(48) NESHAP for Shipbuilding and Ship Repair Facilities—Surface Coating (40 CFR Part 63, Subpart II); Leonard Lazarus of the Office of Compliance at (202) 564-6369; or via E-mail to: lazarus.leonard@epa.gov; EPA ICR Number 1712.06; OMB Control Number 2060-0330; expiration date August 31, 2009.

(49) NESHAP for Metal Furniture Surface Coating (40 CFR Part 63, Subpart RRRR); John Schaefer of the Office of Air Quality Planning and Standards at (919) 541-0296 or via e-mail to schaefer.john@epa.gov; EPA ICR Number 1952.04; OMB Control Number 2060-0518; expiration date September 30, 2009.

(50) NESHAP for the Wood Building Products Surface Coating Industry (40 CFR Part 63, Subpart QQQQ); John Schaefer of the Office of Air Quality Planning and Standards at (919) 541-0296 or via e-mail to schaefer.john@epa.gov; EPA ICR Number 2034.04; OMB Control Number 2060-0510; expiration date September 30, 2009.

(51) NESHAP for Hydrochloric Acid Production (40 CFR Part 63, Subpart NNNNN); John Schaefer of the Office of Air Quality Planning and Standards at (919) 541-0296 or via e-mail to schaefer.john@epa.gov; EPA ICR Number 2032.06; OMB Control Number 2060-0529; expiration date September 30, 2009.

(52) NESHAP for Secondary Aluminum Production (40 CFR Part 63, Subpart RRR); Learia Williams of the Office of Compliance at (202) 564-4113; or via E-mail to: williams.learia@epa.gov; EPA ICR Number 1894.06; OMB Control Number 2060-0433; expiration date September 30, 2009.

D. Information for Individual ICRs

(1) NSPS for Sulfuric Acid Plants (40 CFR Part 60, Subpart H): Docket ID Number EPA-HQ-OECA-2008-0294; EPA ICR Number 1057.11; OMB Control Number 2060-0041; expiration date October 31, 2008.

Affected Entities: Entities potentially affected by this action are the owners or operators of sulfuric acid plants.

Abstract: The New Source Performance Standards (NSPS) for Sulfuric Acid Plants (40 CFR Part 60, Subpart H), were promulgated on December 23, 1971, amended on June 14, 1974 (39 FR 20794), October 6, 1975 (40 FR 46258), May 25, 1983 (48 FR 23611), September 29, 1983 (48 FR 4700), October 20, 1983 (48 FR 48669), February 14, 1989 (54 FR 6666) and October 17, 2000 (65 FR 61753).

The affected entities are subject to the General Provisions of the NSPS at 40 CFR part 60, subpart A, and any changes, or additions to the General Provisions specified at 40 CFR part 60, subpart H.

In general, all NSPS standards require initial notifications, performance tests, and periodic reports. Owners or operators are also required to maintain records of the occurrence and duration of any startup, shutdown, or malfunction in the operation of an affected facility, or any period during which the monitoring system is inoperative. These notifications, reports, and records are essential in determining compliance, and are required of all affected facilities. Reports, at a minimum, are required semiannually.

Burden Statement: The annual public reporting and recordkeeping burden for this collection of information is estimated to average approximately 127 hours per response.

Respondents/Affected Entities: Sulfuric Acid Plants.

Estimated Number of Respondents: 103.

Frequency of Response: Semiannually, occasionally and initially.

Estimated Total Annual Hour Burden: 26,177.

Estimated Total Annual Cost: $464,000, which is comprised of no annualized capital/startup costs and annual O&M costs of $464,000.

(2) NESHAP for Source Categories: Generic Maximum Achievable Control Technology Standards for Carbon Black, Ethylene, Cyanide and Spandex (40 CFR Part 63, Subpart YY); Docket ID Number EPA-HQ-OECA-2008-0433; EPA ICR Number 1983.05; OMB Control Number 2060-0489; expiration date November 30, 2008.

Affected Entities: Entities potentially affected by this action are the owners or operators of manufacturing facilities which produce carbon black, ethylene, cyanide or spandex.

Abstract: The National Emission Standards for Hazardous Air Pollutants (NESHAP) for Source Categories: Generic Maximum Achievable Control Technology Standards for Carbon Black, Ethylene, Cyanide and Spandex (40 CFR Part 63, Subpart YY) were promulgated on June 29, 1999.

The affected entities are subject to the General Provisions of the NESHAP at 40 CFR part 63, subpart A, and any changes, or additions to the General Provisions specified at 40 CFR part 63, subpart YY.

Owners or operators of the affected facilities must submit a one-time-only report of any physical or operational changes and the results of initial performance tests. Owners or operators are also required to maintain records of the occurrence and duration of any startup, shutdown, or malfunction in the operation of an affected facility, or any period during which the monitoring system is inoperative. Periodic reports are also required, at a minimum, semiannually.

Burden Statement: The annual public reporting and recordkeeping burden for this collection of information is estimated to average approximately 90 hours per response.

Respondents/Affected Entities: Carbon black, ethylene, cyanide and spandex manufacturing facilities.

Estimated Number of Respondents: 72.

Frequency of Response: Occasionally, semiannually and annually.

Estimated Total Annual Hour Burden: 13,533.

Estimated Total Annual Cost: $359,000, which is comprised of no annualized capital/startup costs and O&M costs of $359,000.

(3) NSPS for Metallic Mineral Processing Plants (40 CFR Part 60, Subpart LL); Docket ID Number EPA-HQ-OECA-2008-0370; EPA ICR Number 0982.09; OMB Control Number 2060-0016; expiration date November 30, 2008.

Affected Entities: Entities potentially affected by this action are the owners or operators of metallic mineral processing plants.

Abstract: The New Source Performance Standards (NSPS) for Metallic Mineral Processing Plants (40 CFR Part 60, Subpart LL) were promulgated on February 21, 1984.

The affected entities are subject to the General Provisions of the NSPS at 40 CFR part 60, subpart A and any changes, or additions to the General Provisions specified at 40 CFR part 60, subpart LL.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 52 hours per response.

Respondents/Affected Entities: Metallic mineral processing plants.

Estimated Number of Respondents: 20.

Frequency of Response: Initially, occasionally and semiannually.

Estimated Total Annual Hour Burden: 2,306.

Estimated Total Annual Cost: $13,000, which is comprised of no annualized capital/startup costs and O&M costs of $13,000.

(4) NSPS for Primary and Secondary Emissions from Basic Oxygen Furnaces (40 CFR Part 60, Subparts N and Na); Docket ID Number EPA-HQ-OECA-2008-0374; ICR Number 1069.09; OMB Control Number 2060-0029; expiration date November 30, 2008.

Affected Entities: Entities potentially affected by this action are the owners or operators of basic oxygen furnaces.

Abstract: The New Source Performance Standards (NSPS) for Primary and Secondary Emissions from Basic Oxygen Furnaces (40 CFR Part 60, Subparts N and Na were promulgated on July 25, 1977 and January 2, 1986, respectively.

The affected entities are subject to the General Provisions of the NSPS at 40 CFR Part 60, Subpart A and any changes, or additions to the General Provisions specified at 40 CFR Part 60, Subparts N and Na.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 158 hours per response.

Respondents/Affected Entities: Facilities with basic oxygen furnaces.

Estimated Number of Respondents: 5.

Frequency of Response: Initially, occasionally and semiannually.

Estimated Total Annual Hour Burden: 1,896.

Estimated Total Annual Cost: $26,000, which is comprised of $18,000 in annualized capital/startup costs and O&M costs of $8,000.

(5) NSPS for Glass Manufacturing Plants (40 CFR Part 60, Subpart CC); Docket ID Number EPA-HQ-OECA-2008-0377; ICR Number 1131.09; OMB Control Number 2060-0054; expiration date November 30, 2008.

Affected Entities: Entities potentially affected by this action are the owners or operators of glass manufacturing plants.

Abstract: The New Source Performance Standards (NSPS) for Glass Manufacturing Plants (40 CFR Part 60, Subpart CC) was promulgated on October 7, 1980 and amended on October 17, 2000.

The affected entities are subject to the General Provisions of the NSPS at 40 CFR part 60, subpart A and any changes, or additions to the General Provisions specified at 40 CFR part 60, subpart CC.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 8 hours per response.

Respondents/Affected Entities: Glass manufacturing plants.

Estimated Number of Respondents: 41.

Frequency of Response: Occasionally, semiannually and annually.

Estimated Total Annual Hour Burden: 803.

Estimated Total Annual Cost: $238,000, which is comprised of no annualized capital/startup costs and O&M costs of $238,000.

(6) NSPS for Petroleum Refineries (40 CFR Part 60, Subpart J); Docket ID Number EPA-HQ-OECA-2008-0423; ICR Number 1054.10; OMB Control Number 2060-0022; expiration date November 30, 2008.

Affected Entities: Entities potentially affected by this action are the owners or operators of petroleum refineries.

Abstract: The New Source Performance Standards (NSPS) for Petroleum Refineries (40 CFR Part 60, Subpart J) was promulgated on March 15, 1978, and amended on October 25, 1979, and August 17, 1989.

The affected entities are subject to the General Provisions of the NSPS at 40 CFR part 60, subpart A and any changes, or additions to the General Provisions specified at 40 CFR part 60, subpart J.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 50 hours per response.

Respondents/Affected Entities: Petroleum refineries.

Estimated Number of Respondents: 132.

Frequency of Response: Initially, occasionally and semiannually.

Estimated Total Annual Hour Burden: 14,134.

Estimated Total Annual Cost: $541,000, which is comprised of no annualized capital/startup costs and O&M costs of $541,000.

(7) NESHAP for Coke Oven Batteries (40 CFR Part 63, Subpart L); Docket ID Number EPA-HQ-OECA-2008-0297; EPA ICR Number 1362.08; OMB Control Number 2060-0253; expiration date December 31, 2008.

Affected Entities: Entities potentially affected by this action are the owners or operators of coke oven batteries.

Abstract: The National Emissions Standards for Coke Oven Batteries were promulgated on October 27, 1993.

The affected entities are subject to the General Provisions of the NESHAP at 40 CFR part 63, subpart A, and any changes, or additions to the General Provisions specified at 40 CFR part 63, subpart L.

Owners or operators of the affected facilities described must make one-time-only notifications to elect a compliance track and to certify initial compliance. Owners or operators are also required to maintain records of the occurrence and duration of any startup, shutdown, or malfunction in the operation of an affected facility, or any period during which the monitoring system is inoperative. Monitoring requirements specific to coke oven batteries provide information on the operation of the emissions control device and compliance with the visible emissions standard. At minimum, semiannual reports of compliance are required.

Burden Statement: The annual public reporting and recordkeeping burden for this collection of information is estimated to average approximately 1,723 hours per response.

Respondents/Affected Entities: Coke oven batteries.

Estimated Number of Respondents: 19.

Frequency of Response: Occasionally, semiannually and initially.

Estimated Total Annual Hour Burden: 105,107.

Estimated Total Annual Cost: There are no annualized capital/startup costs or O&M costs associated with this ICR.

(8) NESHAP for Miscellaneous Metal Parts and Products (40 CFR Part 63, Subpart MMMMM); Docket ID Number EPA-HQ-OECA-2008-0288; EPA ICR Number 2056.03; OMB Control Number 2060-0486; expiration date January 31, 2009.

Affected Entities: Entities potentially affected by this action are the owners or operators of miscellaneous metal parts and products facilities.

Abstract: The National Emission Standards for Hazardous Air Pollutants (NESHAP) for Miscellaneous Metal Parts and Products (40 CFR Part 63, Subpart MMMMM) were promulgated on January 2, 2004.

The affected entities are subject to the General Provisions of the NESHAP at 40 CFR part 63, subpart A, and any changes, or additions to the General Provisions specified at 40 CFR part 63, subpart MMMMM.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 198 hours per response.

Respondents/Affected Entities: Miscellaneous metal parts and products.

Estimated Number of Respondents: 1,680.

Frequency of Response: Occasionally, semiannually and initially.

Estimated Total Annual Hour Burden: 675,050 hours.

Estimated Total Annual Cost: $2,167,000, which is comprised of annualized capital/startup costs of $1,667,000 and O&M costs of $500,000.

(9) NESHAP for Polyether Polyols Production (40 CFR Part 63, Subpart PPP); Docket ID Number EPA-HQ-OECA-2008-0427; EPA ICR Number 1811.06; OMB Control Number 2060-0415; expiration date January 31, 2009.

Affected Entities: Entities potentially affected by this action are the owners or operators of manufacturing facilities which produce polyether polyols.

Abstract: The National Emission Standards for Hazardous Air Pollutants (NESHAP) for Polyether Polyols Production (40 CFR Part 63, Subpart PPP) were promulgated on June 1, 1999.

The affected entities are subject to the General Provisions of the NESHAP at 40 CFR part 63, subpart A, and any changes, or additions to the General Provisions specified at 40 CFR part 63, subpart PPP.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 68 hours per response.

Respondents/Affected Entities: Polyether polyols manufacturing facilities.

Estimated Number of Respondents: 82.

Frequency of Response: Occasionally, semiannually and annually.

Estimated Total Annual Hour Burden: 13,042.

Estimated Total Annual Cost: $203,000, which is comprised of no annualized capital/startup costs and O&M costs of $203,000.

(10) NSPS for Bulk Gasoline Terminals (40 CFR Part 60, Subpart XX); Docket ID Number EPA-HQ-OECA-2008-0279; EPA ICR Number 0664.09; OMB Control Number 2060-0006; expiration date January 31, 2009.

Affected Entities: Entities potentially affected by this action are the owners or operators of loading racks at bulk gasoline terminals that deliver liquid product into gasoline tank trucks.

Abstract: The New Source Performance Standards (NSPS) were promulgated on August 18, 1983, and amended on December 22, 1983. The affected entities are subject to the General Provisions of the NSPS at 40 CFR part 60, subpart A and any changes, or additions to the General Provisions specified at 40 CFR Part 60, Subpart XX.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 329 hours per response.

Respondents/Affected Entities: Bulk gasoline terminals.

Estimated Number of Respondents: 40.

Frequency of Response: Initially and occasionally.

Estimated Total Annual Hour Burden: 13,168.

Estimated Total Annual Cost: There are no annualized capital/startup costs or O&M costs associated with this ICR.

(11) NESHAP for Natural Gas Transmission and Storage (40 CFR Part 63, Subpart HHH); Docket ID Number EPA-HQ-OECA-2008-0425; EPA ICR Number 1789.06; OMB Control Number 2060-0418; expiration date January 31, 2009.

Affected Entities: Entities potentially affected by this action are the owners or operators of natural gas transmission and storage facilities.

Abstract: The National Emission Standards for Hazardous Air Pollutants (NESHAP) for Natural Gas Transmission and Storage (40 CFR Part 63, Subpart HHH) were promulgated on June 17, 1999.

The affected entities are subject to the General Provisions of the NESHAP at 40 CFR part 63, subpart A, and any changes, or additions to the General Provisions specified at 40 CFR part 63, subpart HHH.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 15 hours per response.

Respondents/Affected Entities: Natural gas transmission and storage facilities.

Estimated Number of Respondents: 830.

Frequency of Response: Initially, occasionally and semiannually.

Estimated Total Annual Hour Burden: 757.

Estimated Total Annual Cost: There are no annualized capital/startup costs or O&M costs associated with this ICR.

(12) NESHAP for Inorganic Arsenic Emissions from Glass Manufacturing Plants (40 CFR Part 61, Subpart N); Docket ID Number EPA-HQ-OECA-2008-0375; EPA ICR Number 1081.09; OMB Control Number 2060-0043; expiration date January 31, 2009.

Affected Entities: Entities potentially affected by this action are the owners or operators of glass manufacturing plants.

Abstract: The National Emission Standards for Hazardous Air Pollutants (NESHAP) for Inorganic Arsenic Emissions from Glass Manufacturing Plants (40 CFR Part 61, Subpart N) were promulgated on August 4, 1986.

The affected entities are subject to the General Provisions of NESHAP at 40 CFR part 61, subpart A, and any changes, or additions to the General Provisions specified at 40 CFR part 61, subpart N.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 49 hours per response.

Respondents/Affected Entities: Glass manufacturing plants.

Estimated Number of Respondents: 16.

Frequency of Response: Initially, occasionally, semiannually and annually.

Estimated Total Annual Hour Burden: 3,098.

Estimated Total Annual Cost: $56,000, which is comprised of no annualized capital/startup costs and O&M costs of $56,000.

(13) NSPS for Calciners and Dryers in Mineral Industries (40 CFR Part 60, subpart UUU); Docket ID Number EPA-HQ-OECA-2008-0368; EPA ICR Number 0746.07, OMB Control Number 2060-0251; expiration date January 31, 2009.

Affected Entities: Entities potentially affected by this action are the owners or operators of calciners and dryers in the mineral industries.

Abstract: The New Source Performance Standards (NSPS) for Calciners and Dryers in Mineral Industries (40 CFR Part 60, Subpart UUU) was promulgated on September 28, 1992.

The affected entities are subject to the General Provisions of the NSPS at 40 CFR part 60, subpart A and any changes, or additions to the General Provisions specified at 40 CFR part 60, subpart UUU.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 20 hours per response.

Respondents/Affected Entities: Calciners and dryers in the mineral industries.

Estimated Number of Respondents: 167.

Frequency of Response: Initially, occasionally and semiannually.

Estimated Total Annual Hour Burden: 6,955.

Estimated Total Annual Cost: $115,000, which is comprised of $4,000 in annualized capital/startup costs and O&M costs of $109,000.

(14) NSPS for Municipal Solid Waste Landfills (40 CFR part 60, subpart WWW); Docket ID Number EPA-HQ-OECA-2007-0299; EPA ICR Number 1557.07; OMB Control Number 2060-0220; expiration date January 31, 2009.

Affected Entities: Entities potentially affected by this action are the owners or operators of municipal solid waste landfills.

Abstract: The New Source Performance Standards (NSPS) for Municipal Solid Waste Landfills (40 CFR Part 60, Subpart WWW) were promulgated on March 12, 1996.

The affected entities are subject to the General Provisions of the NSPS at 40 CFR part 60, subpart A and any changes, or additions to the General Provisions specified at 40 CFR part 60, subpart WWW.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 17 hours per response.

Respondents/Affected Entities: Municipal solid waste landfills.

Estimated Number of Respondents: 175.

Frequency of Response: Occasionally, annually and initially.

Estimated Total Annual Hour Burden: 3,548 hours.

Estimated Total Annual Cost: $21,000 which is comprised of no annualized capital/startup costs and annual O&M costs of $21,000.

(15) NESHAP for Primary Lead Smelters (40 CFR Part 63, Subpart TTT); Docket ID Number EPA-HQ-OECA-2008-0365; EPA ICR Number 1856.06; OMB Control Number 2060-0414; expiration date February 28, 2009.

Affected Entities: Entities potentially affected by this action are the owners or operators of primary lead smelters.

Abstract: The National Emission Standards for Hazardous Air Pollutants (NESHAP) for Primary Lead Smelters (40 CFR Part 63, Subpart TTT) were promulgated on June 4, 1999.

The affected entities are subject to the General Provisions of the NESHAP at 40 CFR Part 63, subpart A, and any changes, or additions to the General Provisions specified at 40 CFR Part 63, subpart TTT.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 3,048 hours per response.

Respondents/Affected Entities: Primary lead smelters.

Estimated Number of Respondents: 2.

Frequency of Response: Initially, occasionally, semiannually and annually.

Estimated Total Annual Hour Burden: 12,190.

Estimated Total Annual Cost: $19,000, which is comprised of no annualized capital/startup costs and O&M costs of $19,000.

(16) NSPS for Metal Coil Surface Coating (40 CFR Part 60, Subpart TT); Docket ID Number EPA-HQ-OECA-2008-0422; ICR Number 0660.10; OMB Control Number 2060-0107; expiration date February 28, 2009.

Affected Entities: Entities potentially affected by this action are the owners or operators of metal coil surface coating facilities.

Abstract: The New Source Performance Standards (NSPS) for Metal Coil Surface Coating (40 CFR Part 60, Subpart TT) was promulgated on November 1, 1982.

The affected entities are subject to the General Provisions of the NSPS at 40 CFR part 60, subpart A and any changes, or additions to the General Provisions specified at 40 CFR part 60, subpart TT.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 41 hours per response.

Respondents/Affected Entities: Metal coil surface coating facilities.

Estimated Number of Respondents: 158.

Frequency of Response: Initially, occasionally, semiannually and annually.

Estimated Total Annual Hour Burden: 15,643.

Estimated Total Annual Cost: $332,000, which is comprised of no annualized capital/startup costs and O&M costs of $332,000.

(17) NESHAP for Steel Pickling, HCL Process Facilities and Hydrochloric Acid Regeneration Plants (40 CFR Part 63, Subpart CCC); Docket ID Number EPA-HQ-OECA-2008-0301; EPA ICR Number 1821.06; OMB Control Number 2060-0419; expiration date February 28, 2009.

Affected Entities: Entities potentially affected by this action are the owners or operators of steel pickling and HCL processing facilities and hydrochloric acid regeneration plants.

Abstract: The National Emission Standards for Hazardous Air Pollutants (NESHAP) for Steel Pickling, HCL Process Facilities and Hydrochloric Acid Regeneration Plants (40 CFR Part 63, Subpart CCC) were promulgated on June 22, 1999.

The affected entities are subject to the General Provisions of the NESHAP at 40 CFR Part 63, subpart A, and any changes, or additions to the General Provisions specified at 40 CFR Part 63, subpart CCC.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 166 hours per response.

Respondents/Affected Entities: Steel pickling and HCL processing facilities and hydrochloric acid regeneration plants.

Estimated Number of Respondents: 72.

Frequency of Response: Initial, semiannual and occasionally.

Estimated Total Annual Hour Burden: 25,448.

Estimated Total Annual Cost: $9,000, which is comprised of annualized capital/startup costs of $1,000, and annual O&M costs of $8,000.

(18) NESHAP for Portland Cement (40 CFR Part 63, Subpart LLL); Docket ID Number EPA-HQ-OECA-2008-0426; EPA ICR Number 1801.07; OMB Control Number 2060-0416; expiration date February 28, 2009.

Affected Entities: Entities potentially affected by this action are the owners or operators of portland cement plants.

Abstract: The National Emission Standards for Hazardous Air Pollutants (NESHAP) for Portland Cement (40 CFR Part 63, Subpart LLL) were promulgated on June 14, 1999, and amended December 20, 2006.

The affected entities are subject to the General Provisions of the NESHAP at 40 CFR Part 63, subpart A, and any changes, or additions to the General Provisions specified at 40 CFR Part 63, Subpart LLL.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 203 hours per response.

Respondents/Affected Entities: Portland cement plants.

Estimated Number of Respondents: 107.

Frequency of Response: Initially, occasionally, semiannually and annually.

Estimated Total Annual Hour Burden: 21,685.

Estimated Total Annual Cost: $954,000, which is comprised of no annualized capital/startup costs and O&M costs of $954,000.

(19) NSPS for Equipment Leaks of VOC in Petroleum Refineries (40 CFR Part 60, Subpart GGG and GGGa); Docket ID Number EPA-HQ-OECA-2008-0280; EPA ICR Number 0983.10; OMB Control Number 2060-0067; expiration date February 28, 2009.

Affected Entities: Entities potentially affected by this action are the owners or operators of petroleum refineries.

Abstract: The New Source Performance Standards (NSPS) Equipment Leaks of VOC in Petroleum Refineries (40 CFR Part 60, Subpart GGG and GGGa) were promulgated on May 30, 1984.

The affected entities are subject to the General Provisions of the NESHAP at 40 CFR Part 63, Subpart A, and any changes, or additions to the General Provisions specified at 40 CFR part 63, subparts GGG and GGGa.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 72 hours per response.

Respondents/Affected Entities: Equipment leaks of VOC in petroleum refineries.

Estimated Number of Respondents: 49.

Frequency of Response: Initially, Occasionally and semiannually.

Estimated Total Annual Hour Burden: 21,360.

Estimated Total Annual Cost: There are no annualized capital/startup or O&M costs associated with this ICR.

(20) NESHAP for Oil and Natural Gas Production (40 CFR Part 63, Subpart HH); Docket ID Number EPA-HQ-OECA-2008-0424; ICR Number 1788.09; OMB Control Number 2060-0417; expiration date March 31, 2009.

Affected Entities: Entities potentially affected by this action are the owners or operators of oil and natural gas production facilities.

Abstract: The National Emission Standards for Hazardous Air Pollutants (NESHAP) for Oil and Natural Gas Production (40 CFR Part 63, Subpart HH) were promulgated on June 17, 1999 and amended January 3, 2007.

The affected entities are subject to the General Provisions of the NESHAP at 40 CFR part 63, subpart A, and any changes, or additions to the General Provisions specified at 40 CFR part 63, subpart HH.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 98 hours per response.

Respondents/Affected Entities: Oil and natural gas production facilities.

Estimated Number of Respondents: 129,846.

Frequency of Response: Occasionally, semiannually and annually.

Estimated Total Annual Hour Burden: 203,921.

Estimated Total Annual Cost: $525,000, which is comprised of $20,000 in annualized capital/startup costs and O&M costs of $505,000.

(21) NESHAP for Wet-Formed Fiberglass Mat Production (40 CFR Part 63, Subpart HHHH); Docket ID Number EPA-HQ-OECA-2008-0431; ICR Number 1964.04, OMB Control Number 2060-0496; OMB Control Number 2060-0414; expiration date March 31, 2009.

Affected Entities: Entities potentially affected by this action are the owners or operators of wet-formed fiberglass mat production facilities.

Abstract: The National Emission Standards for Hazardous Air Pollutants (NESHAP) for Wet-Formed Fiberglass Mat Production (40 CFR Part 63, Subpart HHHH) were promulgated on June 17, 1999.

The affected entities are subject to the General Provisions of the NESHAP at 40 CFR part 63, subpart A, and any changes, or additions to the General Provisions specified at 40 CFR part 63, subpart HHH.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 41 hours per response.

Respondents/Affected Entities: Wet-formed fiberglass mat production facilities.

Estimated Number of Respondents: 14.

Frequency of Response: Initially, occasionally, semiannually and annually.

Estimated Total Annual Hour Burden: 1,966.

Estimated Total Annual Cost: There are no annualized capital/startup costs or O&M costs associated with this ICR.

(22) NESHAP for Source Categories for Generic Maximum Achievable Control Technology Standards for Acetal Resin; Acrylic and Modacrylic Fiber; Hydrogen Fluoride and Polycarbonate Production (40 CFR Part 63, Subpart YY); Docket ID Number EPA-HQ-OECA-2008-0428; EPA ICR Number 1871.05; OMB Control Number 2060-0420; expiration date March 31, 2009.

Affected Entities: Entities potentially affected by this action are the owners or operators of polycarbonate, acrylic and modacrylic fiber, acetal resin and hydrogen fluoride production facilities.

Abstract: The National Emission Standards for Hazardous Air Pollutants (NESHAP) for Source Categories for Generic Maximum Achievable Control Technology Standards (40 CFR Part 63, Subpart YY) were promulgated on June 29, 1999.

The affected entities are subject to the General Provisions of the NESHAP at 40 CFR part 63, subpart A, and any changes, or additions to the General Provisions specified at 40 CFR part 63, subpart YY.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 133 hours per response.

Respondents/Affected Entities: Polycarbonate, acrylic and modacrylic fiber, acetal resin and hydrogen fluoride production facilities.

Estimated Number of Respondents: 30.

Frequency of Response: Initially, occasionally and semiannually.

Estimated Total Annual Hour Burden: 4,004.

Estimated Total Annual Cost: $107,000, which is comprised of no annualized capital/startup costs and O&M costs of $107,000.

(23) NSPS for Grain Elevators (40 CFR Part 60, Subpart DD); Docket ID Number EPA-HQ-OECA-2008-0295; EPA ICR Number 1130.09; OMB Control Number 2060-0082; expiration date March 31, 2009.

Affected Entities: Entities potentially affected by this action are the owners or operators of grain elevators.

Abstract: The New Source Performance Standards (NSPS) for Grain Elevators (40 CFR Part 60, Subpart DD) were promulgated on August 3, 1978.

The affected entities are subject to the General Provisions of NSPS at 40 CFR part 60, subpart A and any changes, or additions to the General Provisions specified at 40 CFR part 60, subpart DD.

Owners or operators of the affected facilities must make an initial notification, performance tests, periodic reports, and maintain records of the occurrence and duration of any startup, shutdown, or malfunction in the operation of an affected facility, or any period during which the monitoring system is inoperative. Reports, at a minimum, are required annually.

Burden Statement: The annual public reporting and recordkeeping burden for this collection of information is estimated to average approximately 10 hours per response.

Respondents/Affected Entities: Grain elevators.

Estimated Number of Respondents: 200.

Frequency of Response: Occasionally, initially and annually.

Estimated Total Annual Hour Burden: 2,070 hours.

Estimated Total Annual Cost: There are no annualized capital/startup or O&M costs associated with this ICR.

(24) NESHAP for Flexible Polyurethane Foam Fabrication (40 CFR Part 63, Subpart MMMMM); Docket ID Number EPA-HQ-OECA-2008-0371; ICR Number 2027.04; OMB Control Number 2060-0516; expiration date March 31, 2009.

Affected Entities: Entities potentially affected by this action are the owners or operators of flexible polyurethane foam fabrication facilities.

Abstract: The National Emission Standards for Hazardous Air Pollutants (NESHAP) for Flexible Polyurethane Foam Fabrication (40 CFR Part 63, Subpart MMMMM) were promulgated on April 14, 2003.

The affected entities are subject to the General Provisions of the NESHAP at 40 CFR part 63, subpart A, and any changes, or additions to the General Provisions specified at 40 CFR part 63, subpart MMMMM.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 90 hours per response.

Respondents/Affected Entities: Flexible polyurethane foam fabrication facilities.

Estimated Number of Respondents: 11.

Frequency of Response: Initially, occasionally, semiannually and annually.

Estimated Total Annual Hour Burden: 12,303.

Estimated Total Annual Cost: $3,000, which is comprised of $1,000 annualized capital/startup costs and O&M costs of $2,000.

(25) Emission Guidelines for Existing Other Solid Waste Incineration Units (40 CFR Part 60, Subpart FFFF); Docket ID Number EPA-HQ-OECA-2008-0291; EPA ICR Number 2164.03; OMB Control Number 2060-0562; expiration date March 31, 2009.

Affected Entities: Entities potentially affected by this action are the owners or operators of existing solid waste incinerators.

Abstract: This supporting statement addresses information collection activities imposed by the Emission Guidelines for Other Solid Waste Incineration (OSWI) Units (40 CFR Part 60 Subpart FFFF). The emission guidelines address existing OSWI units that commenced construction before proposal of the emission guidelines (December 9, 2004). The emission guidelines do not apply directly to existing OSWI unit owners and operators.

The emission guidelines can be thought of as model regulations( that a State agency can use in developing plans to implement the emission guidelines. If a State does not develop, adopt, and submit an approvable State plan, the Federal government must develop a plan to implement the emission guidelines. This ICR includes the burden for an affected entity whether it is ultimately regulated under a State or Federal plan.

Burden Statement: The annual public reporting and recordkeeping burden for this collection of information is estimated to average approximately 214 hours per response.

Respondents/Affected Entities: Other existing solid waste incinerators.

Estimated Number of Respondents: 248.

Frequency of Response: Semiannually and annually.

Estimated Total Annual Hour Burden: 3,803.

Estimated Total Annual Cost: There are no annualized capital/startup or O&M costs associated with this ICR.

(26) NSPS for Other Solid Waste Incineration Units (40 CFR Part 60, Subpart EEEE); Docket ID Number EPA-HQ-OECA-2008-0290; EPA ICR Number 2163.03; OMB Control Number 2060-0563; expiration date March 31, 2009.

Affected Entities: Entities potentially affected by this action are the owners or operators of very small municipal waste combustion units and institutional waste incineration units.

Abstract: The information collection activities required by the this NSPS include: sitting requirements, operator training and qualification requirements, testing, monitoring and reporting requirements, one-time and periodic reports, and the maintenance of records. These activities will enable EPA to determine initial compliance with the emission limits for the regulated pollutants, monitor compliance with operating parameters, and ensure that facilities conduct the proper planning and operator training.

Burden Statement: The annual public reporting and recordkeeping burden for this collection of information is estimated to average approximately 1 hour per response.

Respondents/Affected Entities: Very small municipal waste combustion units and institutional waste incineration units.

Estimated Number of Respondents: 1.

Frequency of Response: Semiannually, annually and initially.

Estimated Total Annual Hour Burden: 1.

Estimated Total Annual Cost: There are no annualized capital/startup or O&M costs associated with this ICR.

(27) NESHAP for Asbestos (40 CFR Part 61, Subpart M); Docket ID Number EPA-HQ-OECA-2007-0054; EPA ICR Number 0111.12; OMB Control Number 2060-0101; expiration date April 30, 2009.

Affected Entities: The standards apply to the following Affected Entities: demolition and renovation of facilities; the disposal of asbestos waste; asbestos milling, manufacturing and fabricating; the use of asbestos on roadways; asbestos waste conversion facilities; and the use of asbestos insulation and sprayed-on materials.

Abstract: The National Emission Standards for Hazardous Air Pollutants (NESHAP) for Asbestos (40 CFR Part 61, Subpart M) were promulgated on November 20, 1990.

The affected entities are subject to the General Provisions of the NESHAP at 40 CFR part 61, subpart A, and any changes, or additions to the General Provisions specified at 40 CFR part 63, subpart M.

The monitoring, recordkeeping, and reporting requirements outlined in these rules are similar to those required for other NESHAP regulations. Consistent with the NESHAP General Provisions (40 CFR part 61, subpart A), respondents are required to submit initial notifications conduct performance tests, and submit semiannual reports. They are also required to maintain records of applicability determinations; performance test results; exceedances; periods of startup, shutdown, or malfunction; monitoring records; and all other information needed to determined compliance with the applicable standard, such as records of visible emissions monitoring at potential sources of asbestos and of inspection records of air cleaning devices to ensure proper operation.

Burden Statement: The annual public reporting and recordkeeping burden for this collection of information is estimated to average approximately 2 hours per response.

Respondents/Affected Entities: Facilities that engage in the demolition, renovation, disposal, milling, manufacturing or fabricating of asbestos.

Estimated Number of Respondents: 9,432.

Frequency of Response: Initially, occasionally and semiannually.

Estimated Total Annual Hour Burden: 229,381.

Estimated Total Annual Hour Burden: There are no annualized capital/startup or O&M costs associated with this ICR.

(28) NSPS for Lime Manufacturing (40 CFR Part 60, Subpart HH); Docket ID Number EPA-HQ-OECA-2008-0363; EPA ICR Number 1167.09; OMB Control Number 2060-0063; expiration date April 30, 2009.

Affected Entities: Entities potentially affected by this action are the owners or operators of lime production facilities.

Abstract: The New Source Performance Standards (NSPS) for Lime Manufacturing (40 CFR Part 60, Subpart HH) was promulgated on April 26, 1984.

The affected entities are subject to the General Provisions of the NSPS at 40 CFR part 60, subpart A and any changes, or additions to the General Provisions specified at 40 CFR part 60, subpart HH.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 46 hours per response.

Respondents/Affected Entities: Lime production facilities.

Estimated Number of Respondents: 41.

Frequency of Response: Initially, occasionally and semiannually.

Estimated Total Annual Hour Burden: 3,773.

Estimated Total Annual Cost: $62,000, which is comprised of no annualized capital/startup costs and O&M costs of $62,000.

(29) NSPS for Hot Mix Asphalt Facilities (40 CFR Part 60, Subpart I); Docket ID Number EPA-HQ-OECA-2008-0376; EPA ICR Number 1127.09, OMB Control Number 2060-0083; expiration date April 30, 2009.

Affected Entities: Entities potentially affected by this action are the owners or operators of hot mix asphalt facilities.

Abstract: The New Source Performance Standards (NSPS) for Hot Mix Asphalt Facilities (40 CFR Part 60, Subpart I) was promulgated on July 25, 1977 amend April 10, 1986.

The affected entities are subject to the General Provisions of the NSPS at 40 CFR part 60, subpart A and any changes, or additions to the General Provisions specified at 40 CFR part 60, subpart I.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately four (4) hours per response.

Respondents/Affected Entities: Hot mix asphalt facilities.

Estimated Number of Respondents: 4,010.

Frequency of Response: Initially and occasionally.

Estimated Total Annual Hour Burden: 17,318.

Estimated Total Annual Cost: There are no annualized capital/startup or O&M costs associated with this ICR.

(30) NSPS for Kraft Pulp Mills (40 CFR Part 60, Subpart BB); Docket ID Number EPA-HQ-OECA-2008-0293; EPA ICR Number 1055.09; OMB Control Number 2060-0021; expiration date May 31, 2009.

Affected Entities: Entities potentially affected by this action are the owners or operators of kraft pulp mills.

Abstract: The New Source Performance Standards (NSPS) for the regulations published at 40 CFR Part 60, Subpart BB were proposed on September 24, 1976, and promulgated on February 23, 1978. Revisions to the standards were promulgated on May 20, 1986.

The affected entities are subject to the General Provisions of the NESHAP at 40 CFR part 63, subpart A, and any changes, or additions to the General Provisions specified at 40 CFR part 63, subpart BB.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 37 hours per response.

Respondents/Affected Entities: Kraft pulp mills.

Estimated Number of Respondents: 100.

Frequency of Response: Initially, occasionally and semiannually.

Estimated Total Annual Hour Burden: 15,235.

Estimated Total Annual Cost: $3,965,000, which is comprised of annualized capital/startup costs of $345,000 and O&M costs of $3,620,000.

(31) NESHAP for Printing, Coating and Dyeing of Fabrics and Other Textiles (40 CFR Part 63, Subpart OOOO); Docket ID Number EPA-HQ-OECA-2008-0293; EPA ICR Number 2071.04; OMB Control Number 2060-0522; expiration date June 30, 2009.

Affected Entities: Entities potentially affected by this action are the owners or operators of facilities that print, coat and dye fabrics and other textiles.

Abstract: The National Emission Standards for Hazardous Air Pollutants (NESHAP) for Printing, Coating and Dyeing of Fabrics and Other Textiles (40 CFR Part 63, Subpart OOOO) were promulgated on May 29, 2003, and amended on August 4, 2004.

The affected entities are subject to the General Provisions of the NESHAP at 40 CFR part 63, subpart A, and any changes, or additions to the General Provisions specified at 40 CFR part 63, subpart OOOO.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 69 hours per response.

Respondents/Affected Entities: Printing, coating, and dyeing of fabrics and other textiles.

Estimated Number of Respondents: 140.

Frequency of Response: Occasionally, semiannually and initially.

Estimated Total Annual Hour Burden: 20,821.

Estimated Total Annual Cost: $7,000 which includes $3,000 annualized capital start-up cost and $4,000 annualized O&M costs.

(32) NESHAP for Reinforced Plastics Composites Production (40 CFR Part 63, Subpart WWWW); Docket ID Number EPA-HQ-OECA-2008-0432; ICR Number 1976.04; OMB Control Number 2060-0509; expiration date June 30, 2009.

Affected Entities: Entities potentially affected by this action are the owners or operators of reinforced plastics composites production facilities.

Abstract: The National Emission Standards for Hazardous Air Pollutants (NESHAP) for Reinforced Plastics Composites Production (40 CFR Part 63, Subpart WWWW) were promulgated on April 21, 2003.

The affected entities are subject to the General Provisions of the NESHAP at 40 CFR part 63, subpart A, and any changes, or additions to the General Provisions specified at 40 CFR part 63, subpart WWWW.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 16 hours per response.

Respondents/Affected Entities: Reinforced plastics composites production facilities.

Estimated Number of Respondents: 504.

Frequency of Response: Initially and semiannually.

Estimated Total Annual Hour Burden: 17,740.

Estimated Total Annual Cost: $22,000, which is comprised of no annualized capital/startup costs and O&M costs of $22,000.

(33) NESHAP for Paper and Other Web Coating (40 CFR Part 63, Subpart JJJJ); Docket ID Number EPA-HQ-OECA-2008-0285; EPA ICR Number 1951.04; OMB Control Number 2060-0511; expiration date June 30, 2009.

Affected Entities: Entities potentially affected by this action are the owners or operators of paper and other web coating facilities.

Abstract: The National Emission Standards for Hazardous Air Pollutants (NESHAP) for Paper and Other Web Coating (40 CFR Part 63, Subpart JJJJ) were promulgated on December 4, 2002.

The affected entities are subject to the General Provisions of the NESHAP at 40 CFR Part 63, subpart A, and any changes, or additions to the General Provisions specified at 40 CFR Part 63, Subpart JJJJ.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 23 hours per response.

Respondents/Affected Entities: Paper and other web coating facilities.

Estimated Number of Respondents: 215.

Frequency of Response: Initially, Occasionally, monthly and semiannually.

Estimated Total Annual Hour Burden: 11,312.

Estimated Total Annual Cost: $852,000, which includes $233,000 in annualized capital/startup costs and O&M costs of $619,000.

(34) NESHAP for the Surface Coating of Large Household and Commercial Appliances (40 CFR Part 63, Subpart NNNN); Docket ID Number EPA-HQ-OECA-2008-0430; EPA ICR Number 1954.04; OMB Control Number 2060-0457; expiration date June 30, 2009.

Affected Entities: Entities potentially affected by this action are the owners or operators of large household and commercial appliance manufacturers.

Abstract: The National Emission Standards for Hazardous Air Pollutants (NESHAP) for the Surface Coating of Large Household and Commercial Appliances (40 CFR Part 63, Subpart NNNN) were promulgated on July 23, 2002.

The affected entities are subject to the General Provisions of the NESHAP at 40 CFR part 63, subpart A, and any changes, or additions to the General Provisions specified at 40 CFR part 63, subpart NNNN.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 97 hours per response.

Respondents/Affected Entities: Large household and commercial appliance manufacturers.

Estimated Number of Respondents: 90.

Frequency of Response: Initially, occasionally and semiannually.

Estimated Total Annual Hour Burden: 28,845.

Estimated Total Annual Cost: $172,000, which is comprised of $64,000 in annualized capital/startup costs and O&M costs of $108,000.

(35) NESHAP for Brick and Structural Clay Manufacturing (40 CFR Part 63, Subpart JJJJJ); Docket ID Number EPA-HQ-OECA-2008-0367; EPA ICR Number 2022.04; OMB Control Number 2060-0508; expiration date June 30, 2009.

Affected Entities: Entities potentially affected by this action are the owners or operators of brick and structural clay manufacturers.

Abstract: The National Emission Standards for Hazardous Air Pollutants (NESHAP) for Brick and Structural Clay Manufacturing (40 CFR Part 63, Subpart JJJJJ) were promulgated on May 16, 2003.

The affected entities are subject to the General Provisions of the NESHAP at 40 CFR part 63, subpart A, and any changes, or additions to the General Provisions specified at 40 CFR part 63, subpart JJJJJ.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 85 hours per response.

Respondents/Affected Entities: Brick and structural clay manufacturers.

Estimated Number of Respondents: 72.

Frequency of Response: Initially, occasionally and semiannually.

Estimated Total Annual Hour Burden: 14,086.

Estimated Total Annual Cost: $15,000, which is comprised of $10,000 in annualized capital/startup costs and O&M costs of $5,000.

(36) NESHAP for Refractory Products Manufacturing (40 CFR Part 63, Subpart SSSSS); Docket ID Number EPA-HQ-OECA-2008-0292; EPA ICR Number 2040.04; OMB Control Number 2060-0515; expiration date June 30, 2009.

Affected Entities: Entities potentially affected by this action are the owners or operators of refractory product manufacturing plants.

Abstract: The National Emission Standards for Hazardous Air Pollutants (NESHAP) for the Surface Coating of Large Household and Commercial Appliances (40 CFR Part 63, Subpart XXXX) were promulgated on July 9, 2002.

The affected entities are subject to the General Provisions of the NESHAP at 40 CFR part 63, subpart A, and any changes, or additions to the General Provisions specified at 40 CFR part 63, subpart XXXX.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 21 hours per response.

Respondents/Affected Entities: Refractory product manufacturers.

Estimated Number of Respondents: 8.

Frequency of Response: Initially, occasionally and semiannually.

Estimated Total Annual Hour Burden: 470.

Estimated Total Annual Cost: $3,000, which is comprised of no annualized capital/startup costs and O&M costs of $3,000.

(37) NESHAP for Municipal Solid Waste Landfills (40 CFR Part 63, Subpart AAAA); Docket ID Number EPA-HQ-OECA-2008-0284; EPA ICR Number 1938.04; OMB Control Number 2060-0505; expiration date August 31, 2009.

Affected Entities: Entities potentially affected by this action are the owners or operators of existing and new municipal solid waste landfills.

Abstract: The National Emission Standards for Hazardous Air Pollutants (NESHAP) for Municipal Solid Waste Landfills (40 CFR Part 63, Subpart AAAA) were promulgated on January 16, 2003.

The affected entities are subject to the General Provisions of the NESHAP at 40 CFR part 63, subpart A, and any changes, or additions to the General Provisions specified at 40 CFR part 63, subpart AAAA.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 5 hours per response.

Respondents/Affected Entities: New municipal solid waste (MSW) landfills.

Estimated Number of Respondents: 1,121.

Frequency of Response: Occasionally, semiannually, and annually.

Estimated Total Annual Hour Burden: 18,234.

Estimated Total Annual Cost: $17,000, which includes no annualized capital/startup costs and O&M costs of $17,000.

(38) NESHAP for Publicly Owned Treatment Works (40 CFR Part 63, Subpart VVV); Docket ID Number EPA-HQ-OECA-2008-0281; EPA ICR Number 1891.05; OMB Control Number 2060-0428; expiration date August 31, 2009.

Affected Entities: Entities potentially affected by this action are the owners or operators of existing and new publicly owned treatment works.

Abstract: The National Emission Standards for Hazardous Air Pollutants (NESHAP) for Publicly Owned Treatment Works (40 CFR Part 63, Subpart VVV) were promulgated on October 26, 1999.

The affected entities are subject to the General Provisions of the NESHAP at 40 CFR part 63, subpart A, and any changes, or additions to the General Provisions specified at 40 CFR part 63, subpart VVV.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 1 hour per response.

Respondents/Affected Entities: Publicly owned treatment works.

Estimated Number of Respondents: 6.

Frequency of Response: Occasionally, semiannually, annually and initially.

Estimated Total Annual Hour Burden: 14.

Estimated Total Annual Cost: There are no annualized capital/startup or O&M costs associated with this ICR.

(39) NESHAP for Asphalt Processing and Asphalt Roofing Manufacturing (40 CFR Part 63, Subpart LLLLL); Docket ID Number EPA-HQ-OECA-2008-0373; EPA ICR Number 2029.04; OMB Control Number 2060-0520; OMB Control Number 2060-0457; expiration date August 31, 2009.

Affected Entities: Entities potentially affected by this action are the owners or operators of asphalt processing and asphalt roofing production facilities.

Abstract: The National Emission Standards for Hazardous Air Pollutants (NESHAP) for Asphalt Processing and Asphalt Roofing Manufacturing (40 CFR Part 63, Subpart LLLLL) were promulgated on May 7, 2003.

The affected entities are subject to the General Provisions of the NESHAP at 40 CFR part 63, subpart A, and any changes, or additions to the General Provisions specified at 40 CFR part 63, subpart LLLLL.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 223 hours per response.

Respondents/Affected Entities: Asphalt processing and asphalt roofing production facilities.

Estimated Number of Respondents: 24.

Frequency of Response: Initially, occasionally and semiannually.

Estimated Total Annual Hour Burden: 12,017.

Estimated Total Annual Cost: $25,000, which is comprised of no annualized capital/startup costs and O&M costs of $25,000.

(40) State and Federal Emission Guidelines for Hospital/Medical/Infectious Waste Incinerators (40 CFR Part 60, Subpart Ce and 40 CFR Part 62, Subpart HHH); Docket ID Number EPA-HQ-OECA-2008-0283; EPA ICR Number 1899.04; OMB Control Number 2060-0422; expiration date August 31, 2009.

Affected Entities: Entities potentially affected by this action are the owners or operators of hospital/medical/infectious waste incinerators.

Abstract: The State and Federal Emission Guidelines for Hospital/Medical/Infectious Waste Incinerators, 40 CFR Part 60, Subpart Ce and 40 CFR Part 62, Subpart HHH were promulgated on September 15, 1997, and September 14, 2000, respectively.

Subparts Ce and HHH require initial notifications, performance tests, and annual and semiannual reporting. Owners or operators are also required to maintain records of the occurrence and duration of any startup, shutdown, or malfunction in the operation of an affected facility, or any period during which the monitoring system is inoperative. These notifications, reports, and records are essential in determining compliance. Any owner or operator subject to the provisions of this part shall maintain a file of these measurements, and retain the file for at least five years following the date of such measurements, maintenance reports, and records. All reports are sent to the regulating authority with an approved plan. In the event that there is no such approved plan, the reports are sent directly to the EPA regional office.

Burden Statement: The annual public reporting and recordkeeping burden for this collection of information is estimated to average approximately 320 hours per response.

Respondents/Affected Entities: Hospital/medical/or infectious waste incinerators.

Estimated Number of Respondents: 95.

Frequency of Response: Initially, occasionally, semiannually and annually.

Estimated Total Annual Hour Burden: 69,067.

Estimated Total Annual Cost: $130,000, which is comprised of no annualized capital/startup costs and O&M costs of $130,000.

(41) NESHAP for Benzene Waste Operations (40 CFR Part 61, Subpart FF); Docket ID Number EPA-HQ-OECA-2008-0298; EPA ICR Number 1541.09; OMB Control Number 2060-0183; expiration date August 31, 2009.

Affected Entities: Entities potentially affected by this action are the owners or operators of benzene waste operations.

Abstract: The National Emission Standards for Hazardous Air Pollutants (NESHAP) for Benzene Waste Operations (40 CFR Part 61, Subpart FF) were promulgated on March 7, 1990.

The affected entities are subject to the General Provisions of the NESHAP at 40 CFR part 61, subpart A, and any changes, or additions to the General Provisions specified at 40 CFR part 63, subpart FF.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 71 hours per response.

Respondents/Affected Entities: Facilities having benzene waste operations.

Estimated Number of Respondents: 234.

Frequency of Response: Initially, occasionally, quarterly and semiannually.

Estimated Total Annual Hour Burden: 16,626.

Estimated Total Annual Cost: There are no annualized capital/startup or O&M costs associated with this ICR.

(42) NESHAP for Coke Oven Pushing Quenching and Battery Stacks (40 CFR Part 63, Subpart CCCCC); Docket ID Number EPA-HQ-OECA-2008-0366; EPA ICR Number 1995.04; OMB Control Number 2060-0521; expiration date August 31, 2009.

Affected Entities: Entities potentially affected by this action are the owners or operators of coke oven pushing quenching and battery stacks.

Abstract: The National Emission Standards for Hazardous Air Pollutants (NESHAP) for Coke Oven Pushing Quenching and Battery Stacks (40 CFR Part 63, Subpart CCCCC) were promulgated on April 14, 2003.

The affected entities are subject to the General Provisions of the NESHAP at 40 CFR part 63, subpart A, and any changes, or additions to the General Provisions specified at 40 CFR part 63, subpart CCCCC.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 840 hours per response.

Respondents/Affected Entities: Coke oven pushing quenching and battery stacks.

Estimated Number of Respondents: 6.

Frequency of Response: Initially, occasionally weekly, quarterly and semiannually.

Estimated Total Annual Hour Burden: 25,208.

Estimated Total Annual Cost: $170,000, which is comprised of no annualized capital/startup costs and O&M costs of $170,000.

(43) NESHAP for Clay Ceramics Manufacturing (40 CFR Part 63, Subpart KKKKK); Docket ID Number EPA-HQ-OECA-2008-0369; EPA ICR Number 2023.04, OMB Control Number 2060-0513; expiration date August 31, 2009.

Affected Entities: Entities potentially affected by this action are the owners or operators of clay ceramics manufacturing facilities.

Abstract: The National Emission Standards for Hazardous Air Pollutants (NESHAP) for Clay Ceramics Manufacturing (40 CFR Part 63, Subpart KKKKK) were promulgated on May 16, 2003.

The affected entities are subject to the General Provisions of the NESHAP at 40 CFR part 63, subpart A, and any changes, or additions to the General Provisions specified at 40 CFR part 63, subpart KKKKK.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 840 hours per response.

Respondents/Affected Entities: Clay ceramics manufacturing facilities.

Estimated Number of Respondents: 10.

Frequency of Response: Initially, occasionally and semiannually.

Estimated Total Annual Hour Burden: 527.

Estimated Total Annual Cost: $3,000, which is comprised of $1,000 in annualized capital/startup costs and O&M costs of $2,000.

(44) NSPS for Petroleum Dry Cleaners (40 CFR Part 60, Subpart JJJ); Docket ID Number EPA-HQ-OECA-2008-0372; EPA ICR Number 0997.09; OMB Control Number 2060-0079; expiration date August 31, 2009.

Affected Entities: Entities potentially affected by this action are the owners or operators of petroleum dry cleaners.

Abstract: The New Source Performance Standards (NSPS) for Petroleum Dry Cleaners (40 CFR Part 60, Subpart JJJ) was promulgated on September 24, 1984.

The affected entities are subject to the General Provisions of the NSPS at 40 CFR part 60, subpart A and any changes, or additions to the General Provisions specified at 40 CFR part 60, subpart JJJ.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 22 hours per response.

Respondents/Affected Entities: Petroleum dry cleaners.

Estimated Number of Respondents: 18.

Frequency of Response: Initially.

Estimated Total Annual Hour Burden: 1,664.

Estimated Total Annual Cost: There are no annualized capital/startup costs or O&M costs associated with this ICR.

(45) NESHAP for Integrated Iron and Steel Manufacturing (40 CFR Part 63, Subpart FFFFF); Docket ID Number EPA-HQ-OECA-2008-0286; EPA ICR Number 2003.04; OMB Control Number 2060-0517; expiration date August 31, 2009.

Affected Entities: Entities potentially affected by this action are the owners or operators of new and existing sinter plants, blast furnaces, and basic oxygen process furnace shops at integrated iron and steel manufacturing facilities.

Abstract: The National Emission Standards for Hazardous Air Pollutants (NESHAP) for Integrated Iron and Steel Manufacturing (40 CFR Part 63, Subpart FFFFF) were promulgated on May 20, 2003 and amended August 30, 2005.

The affected entities are subject to the General Provisions of the NESHAP at 40 CFR part 63, subpart A, and any changes, or additions to the General Provisions specified at 40 CFR part 63, subpart FFFFF.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 419 hours per response.

Respondents/Affected Entities: Sinter plants, blast furnaces, and basic oxygen process furnace shops at integrated iron and steel manufacturing facilities.

Estimated Number of Respondents: 18.

Frequency of Response: Initially, occasionally and semiannually.

Estimated Total Annual Hour Burden: 18,421.

Estimated Total Annual Cost: $67,000, which is comprised of no annualized capital/startup costs and O&M costs of $67,000.

(46) NESHAP for Semiconductor Manufacturing (40 CFR Part 63, Subpart BBBBB); Docket ID Number EPA-HQ-OECA-2008-0287; EPA ICR Number 2042.04; OMB Control Number 2060-0519; expiration date August 31, 2009.

Affected Entities: Entities potentially affected by this action are the owners or operators of existing, new, or reconstructed facilities that manufacture semiconductors.

Abstract: The National Emission Standards for Hazardous Air Pollutants (NESHAP) for Semiconductor Manufacturing were promulgated on May 22, 2003.

The affected entities are subject to the General Provisions of the NESHAP at 40 CFR part 63, subpart A, and any changes, or additions to the General Provisions specified at 40 CFR part 63, subpart BBBBB.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 18 hours per response.

Respondents/Affected Entities: Semiconductor manufacturers.

Estimated Number of Respondents: 1.

Frequency of Response: Initially, occasionally and semiannually.

Estimated Total Annual Hour Burden: 37.

Estimated Total Annual Cost: There are no annualized capital/startup or O&M costs associated with this ICR.

(47) NESHAP for Mercury (40 CFR Part 61, Subpart E); Docket ID Number EPA-HQ-OECA-2008-0278; EPA ICR Number 0113.10; OMB Control Number 2060-0097; expiration date August 31, 2009.

Affected Entities: These standards apply to all stationary sources which process mercury ore to recover mercury, use mercury chlor-alkali cells to produce chlorine gas and alkali metal hydroxide, and incinerate or dry wastewater treatment plant sludge.

Abstract: The National Emission Standards for Hazardous Air Pollutants (NESHAP) for Mercury (40 CFR Part 61, Subpart E) were promulgated on April 6, 1973; and amended on October 14, 1975, March 19, 1987, and October 17, 2000.

The affected entities are subject to the General Provisions of the NESHAP at 40 CFR part 61, subpart A, and any changes, or additions to the General Provisions specified at 40 CFR part 63, subpart E.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 160 hours per response.

Respondents/Affected Entities: Mercury.

Estimated Number of Respondents: 107.

Frequency of Response: Initially, semiannually and annually.

Estimated Total Annual Hour Burden: 20,490.

Estimated Total Annual Cost: There are no annualized capital/startup or O&M costs associated with this ICR.

(48) NESHAP for Shipbuilding and Ship Repair Facilities for Surface Coating (40 CFR Part 63, Subpart II); Docket ID Number EPA-HQ-OECA-2008-0300; EPA ICR Number 1712.06; OMB Control Number 2060-0330; expiration date August 31, 2009.

Affected Entities: Entities potentially affected by this action are owners or operators of shipbuilding and ship repair facilities.

Abstract: The National Emission Standards for Hazardous Air Pollutants (NESHAP) for Shipbuilding and Ship Repair Facilities for Surface Coating (40 CFR Part 63, Subpart II), was promulgated on December 15, 1995.

The affected entities are subject to the General Provisions of the NESHAP at 40 CFR part 63, subpart A, and any changes, or additions to the General Provisions specified at 40 CFR part 63, subpart II.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 255 hours per response.

Respondents/Affected Entities: Shipbuilding and ship repair facilities.

Estimated Number of Respondents: 56.

Frequency of Response: Initially, occasionally and semiannually.

Estimated Total Annual Hour Burden: 28,594.

Estimated Total Annual Cost: There are no annualized capital/startup or O&M costs associated with this ICR.

(49) NESHAP for Metal Furniture Surface Coating (40 CFR Part 63, Subpart RRRR); Docket ID Number EPA-HQ-OECA-2008-0429; EPA ICR Number 1952.04; OMB Control Number 2060-0518; expiration date September 30, 2009.

Affected Entities: Entities potentially affected by this action are the owners or operators of metal furniture surface coating facilities.

Abstract: The National Emission Standards for Hazardous Air Pollutants (NESHAP) for Metal Furniture Surface Coating (40 CFR Part 63, Subpart RRRR) were promulgated on May 23, 2003.

The affected entities are subject to the General Provisions of the NESHAP at 40 CFR part 63, subpart A, and any changes, or additions to the General Provisions specified at 40 CFR part 63, subpart RRRR.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 109 hours per response.

Respondents/Affected Entities: Metal furniture surface coating facilities.

Estimated Number of Respondents: 583.

Frequency of Response: Initially, occasionally and semiannually.

Estimated Total Annual Hour Burden: 190,408.

Estimated Total Annual Cost: $700,000, which is comprised of no annualized capital/startup costs and O&M costs of $700,000.

(50) NESHAP for the Wood Building Products Surface Coating Industry (40 CFR Part 63, Subpart QQQQ); Docket ID Number EPA-HQ-OECA-2008-0421; EPA ICR Number 2034.04; OMB Control Number 2060-0510; expiration date September 30, 2009.

Affected Entities: Entities potentially affected by this action are the owners or operators of wood building products surface coating facilities.

Abstract: The National Emission Standards for the Wood Building Products Surface Coating Industry (40 CFR Part 63, Subpart QQQQ) were promulgated on May 28, 2003.

The affected entities are subject to the General Provisions of the NESHAP at 40 CFR part 63, subpart A, and any changes, or additions to the General Provisions specified at 40 CFR part 63, subpart QQQQ.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 109 hours per response.

Respondents/Affected Entities: Wood building products surface coating facilities.

Estimated Number of Respondents: 232.

Frequency of Response: Initially, occasionally and semiannually.

Estimated Total Annual Hour Burden: 75,771.

Estimated Total Annual Cost: $278,000, which is comprised of no annualized capital/startup costs and O&M costs of $278,000.

(51) NESHAP for Hydrochloric Acid Production (40 CFR Part 63, Subpart NNNNN); Docket ID Number EPA-HQ-OECA-2008-0434; EPA ICR Number 2032.06; OMB Control Number 2060-0529; expiration date September 30, 2009.

Affected Entities: Entities potentially affected by this action are the owners or operators of for hydrochloric acid production facilities.

Abstract: The National Emission Standards for Hazardous Air Pollutants (NESHAP) for Hydrochloric Acid Production (40 CFR Part 63, Subpart NNNNN were promulgated on April 17, 2003, and amended April 7, 2006.

The affected entities are subject to the General Provisions of the NESHAP at 40 CFR part 63, subpart A, and any changes, or additions to the General Provisions specified at 40 CFR part 63, subpart NNNNN.

Owners or operators of the affected facilities must submit a one-time-only of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 422 hours per response.

Respondents/Affected Entities: Hydrochloric acid production facilities.

Estimated Number of Respondents: 71.

Frequency of Response: Initially, occasionally and semiannually.

Estimated Total Annual Hour Burden: 49,319.

Estimated Total Annual Cost: $248,000, which is comprised of $26,000 in annualized capital/startup costs and O&M costs of $222,000.

(52) NESHAP for Secondary Aluminum Production (40 CFR Part 63, Subpart RRR); Docket ID Number EPA-HQ-OECA-2008-0282; EPA ICR Number 1894.06; OMB Control Number 2060-0433; expiration date September 30, 2009.

Affected Entities: Entities potentially affected by this action are the owners or operators of secondary aluminum production facilities.

Abstract: The National Emission Standards for Hazardous Air Pollutants (NESHAP) for Secondary Aluminum Production (40 CFR part 63, subpart RRR) were promulgated on March 23, 2002, and amended on December 30, 2002.

The affected entities are subject to the General Provisions of the NESHAP at 40 CFR part 63, subpart A, and any changes, or additions to the General Provisions specified at 40 CFR part 63, subpart RRR.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average approximately 29 hours per response.

Respondents/Affected Entities: Secondary aluminum production facilities.

Estimated Number of Respondents: 1,624.

Frequency of Response: Initially, occasionally and semiannually.

Estimated Total Annual Hour Burden: 93,725.

Estimated Total Annual Cost: $226,000 which includes $84,000 annualized Capital Startup cost, and $142,000 annualized O&M costs.

EPA will consider any comments received and may amend any of the above ICRs, as appropriate. Then the final ICR packages will be submitted to OMB for review and approval pursuant to 5 CFR 1320.12. At that time, EPA will issue one or more Federal Register notices pursuant to 5 CFR 1320.5(a)(1)(iv) to announce the submission of the ICR(s) to OMB and the opportunity to submit additional comments to OMB. If you have any questions about any of the above ICRs or the approval process, please contact the person listed under FOR FURTHER INFORMATION CONTACT.

Dated: May 16, 2008.
Lisa Lund,
Acting Director, Office of Compliance.

[FR Doc. E8-12114 Filed 5-29-08; 8:45 am]

BILLING CODE 6560-50-P